DEPARTMENT OF TRANSPORTATION

Federal Aviation Administration

14 CFR Part 39

[Docket No. 2001-NM-322-AD; Amendment 39-13221; AD 2003-14-02]

RIN 2120-AA64

Airworthiness Directives; Bombardier Model CL-600-2B19 (Regional Jet Series 100 & 440) Airplanes

AGENCY: Federal Aviation Administration, DOT.

ACTION: Final rule; correction.

SUMMARY: This document corrects typographical errors that appeared in airworthiness directive (AD) 2003-14-02 that was published as a final rule; correction in the Federal Register on August 15, 2003 (68 FR 48783). The typographical errors resulted in an incorrect AD number and effective date. This AD is applicable to certain Bombardier Model CL-600-2B19 (Regional Jet series 100 & 440) airplanes. This AD requires a one-time inspection of the aft edge of the left and right main windshields to determine whether a certain placard is installed, and corrective actions if necessary.

DATES: Effective August 14, 2003.

FOR FURTHER INFORMATION CONTACT: Serge Napoleon, Aerospace Engineer, Airframe and Propulsion Branch, ANE-171, FAA, New York Aircraft Certification Office, 10 Fifth Street, Third Floor, Valley Stream, New York 11581; telephone (516) 256-7512; fax (516) 568-2716.

SUPPLEMENTARY INFORMATION: Airworthiness Directive (AD) 2003-14-02, amendment 39-13221, applicable to certain Bombardier Model CL-600-2B19 (Regional Jet series 100 & 440) airplanes, was published as a final rule; correction in the Federal Register on August 15, 2003 (68 FR 48783). That AD requires a one-time inspection of the aft edge of the left and right main windshields to determine whether a certain placard is installed, and corrective actions if necessary.

As published, that final rule; correction incorrectly specified the AD number as “2003-14-02 R1” instead of “2003-14-02” and the effective date as “August 11, 2003” instead of “August 14, 2003.”

Since no other part of the regulatory information has been changed, the final rule is not being republished in the Federal Register.

The effective date of this AD remains August 14, 2003.

§ 39.13 [Corrected]

On page 48783, in the third column, paragraph 2 of Part 39—Airworthiness Directives is corrected to read as follows:

* * * * *

2. Section 39.13 is amended by correctly adding the following airworthiness directive (AD):

AD 2003-14-02 Bombardier, Inc. (Formerly Canadair): Amendment 39-13221. Docket 2001-NM-322-AD.

* * * * *

On page 48784, in the second column, paragraph (e) of AD 2003-14-02 is corrected to read as follows:

* * * * *

(e) The effective date of this amendment remains August 14, 2003.

* * * * *

Issued in Renton, Washington, on September 11, 2003.
Vi L. Lipski,
Manager, Transport Airplane Directorate, Aircraft Certification Service.

[FR Doc. 03-23669 Filed 9-16-03; 8:45 am]

BILLING CODE 4910-13-U